DEPARTMENT OF TRANSPORTATION

Federal Aviation Administration

Fourth Meeting RTCA NextGen Advisory Committee (NAC)

AGENCY: Federal Aviation Administration (FAA), DOT.

ACTION: RTCA NextGen Advisory Committee (NAC).

SUMMARY: The FAA is issuing this notice to advise the public of a meeting of RTCA NextGen Advisory Committee (NAC).

DATES: The meeting will be held September 29, 2011 from 9 a.m. to 4 p.m.

ADDRESSES: The meeting will be held at RTCA Headquarters, Colson/NBAA Conference Room, 1150 18th Street, NW., Suite 910, Washington, DC 20036.

FOR FURTHER INFORMATION CONTACT: RTCA Secretariat, 1150 18th Street, NW., Suite 910, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the NextGen Advisory Committee meeting. The agenda will include:

• 9 a.m. (Opening Plenary (Welcome and Introductions), Chairman Dave Barger, President and CEO, JetBlue Airways.

• Official Statement of Designated Federal Official, Michael Huerta, FAA Deputy Administrator.

• Review and Approval of May 19, 2011 Meeting Summary/Terms of Reference.

• Chairman's Report—Chairman Barger.

• FAA Report—Michael Huerta.

• Subcommittee Report: NAC Subcommittee and Work Groups.

• Subcommittee Co-Chair, Steve Brown, Senior Vice President, Operations and Administration, National Business Aviation Association and Tom Hendricks, Senior Vice President, Safety, Security and Operations, Air Transportation Association.

• Status Report—Data Comm Tasking.

• Break.

• Review and Approve Recommendations for Submission to FAA.

• AdHoc—Economic Incentives to Equip for NextGen.

• Review and Approve Recommendations for Submission to FAA.

• Business Case Gap Assessment for NextGen Equipage and Operational Incentives.

• Review and Approve Recommendation for Submission to FAA.

• Enhancing Operations in Specific Regional Airspace.

• Lunch Break.

• Review and Approve Recommendations for Submission to FAA.

• NextGen Implementation Performance Measurement Criteria.

• Review and Approve Recommendation for Submission to FAA.

• Trajectory Operations Concept of Use for Mid-Term (2018).

• Afternoon Break.

• Review and Approve Recommendation for Submission to FAA.

• Metroplex Prioritization Criteria and Capabilities Applied to the Metroplex Areas.

• Committee Discussion of 2012 Taskings—“What Comes Next?”

• Other Business/Anticipated Issues for NAC Consideration and Action at January/February 2012 meeting.

• Adjourn.

Attendance is open to the interested public but limited to space availability. With the approval of the chairman, members of the public may present oral statements at the meeting. Persons wishing to present statements or obtain information should contact the person listed in the FOR FUTHER INFORMATION CONTACT section. Members of the public may present a written statement to the committee at any time.

Issued in Washington, DC, on August 26, 2011.
Robert L. Bostiga,
RTCA Advisory Committee.

[FR Doc. 2011-22458 Filed 8-31-11; 8:45 am]

BILLING CODE 4910-13-P